ENVIRONMENTAL PROTECTION AGENCY

[EPA-HQ-OPPT-2003-0004; FRL-9367-8]

Access to Confidential Business Information by Abt Associates, Inc.

AGENCY: Environmental Protection Agency (EPA).

ACTION: Notice.

SUMMARY: EPA has authorized its contractor, Abt Associates, Inc. (Abt) of Cambridge, MA, to access information which has been submitted to EPA under section 8 of the Toxic Substances Control Act (TSCA). Some of the information may be claimed or determined to be Confidential Business Information (CBI).

DATES: Access to the confidential data occurred on or about October 11, 2012.

FOR FURTHER INFORMATION CONTACT: For technical information contact: Timothy Kiely, Office of Chemical Safety & Pollution Prevention, Office of Pesticide Programs (7503P), Environmental Protection Agency, 1200 Pennsylvania Ave. NW., Washington, DC 20460-0001; telephone number: (703) 308-8112; fax number: (703) 308-8189; email address: kiely.timothy@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this notice apply to me?

This action is directed to the public in general. This action may, however, be of interest to all who manufacture, process, or distribute industrial chemicals. Since other entities may also be interested, the Agency has not attempted to describe all the specific entities that may be affected by this action. If you have any questions regarding the applicability of this action to a particular entity, consult the technical person listed under FOR FURTHER INFORMATION CONTACT.

B. How can I get copies of this document and other related information?

EPA has established a docket for this action under docket identification (ID) number EPA-HQ-OPPT-2003-0004. All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. What action is the agency taking?

Under EPA Contract Number EP-W-12-001, contractor Abt of 55 Wheeler Street, Cambridge, MA is assisting the EPA in developing public information products for the 2012 Chemical Data Reporting (CDR) data. These products shall include individual fact sheets; a natural report with various descriptions of the data resulting from data queries and associated program analyses; trend analysis and other items.

In accordance with 40 CFR 2.306(j), EPA has determined that under EPA Contract Number EP-W-12-001, Abt requires access to CBI submitted to EPA under section 8 of TSCA to perform successfully the duties specified under the contract. Abt's personnel were given access to information submitted to EPA under section 8 of TSCA. Some of the information may be claimed or determined to be CBI.

EPA is issuing this notice to inform all submitters of information under section 8 of TSCA that EPA is providing Abt access to these CBI materials on a need-to-know basis only. All access to TSCA CBI under this contract will take place at EPA Headquarters and Abt's Bethesda, MD and Cambridge, MA sites, in accordance with EPA's TSCA CBI Protection Manual.

Access to TSCA data, including CBI, will continue until November 30, 2016. If the contract is extended, this access will also continue for the duration of the extended contract without further notice.

Abt's personnel were required to sign nondisclosure agreements and were briefed on appropriate security procedures before they were permitted access to TSCA CBI.

List of Subjects

Environmental protection, Confidential business information.

Dated: October 24, 2012.
Matthew G. Leopard,
Director, Information Management Division, Office of Pollution Prevention and Toxics.

[FR Doc. 2012-27861 Filed 11-15-12; 8:45 am]

BILLING CODE 6560-50-P